DEPARTMENT OF LABOR

Employment and Training Administration

[TA-W-75,232; TA-W-75,232A]

Amended Certification Regarding Eligibility To Apply for Worker Adjustment Assistance; The Travelers Indemnity Company, A Wholly-Owned Subsidiary of the Travelers Companies, Inc., Personal Insurance Division, Customer Sales and Service Business Unit, Account Processing Unit, Including Teleworkers Located Throughout the United States, Reporting to Knoxville, TN; The Travelers Indemnity Company, A Wholly-Owned Subsidiary of the Travelers Companies, Inc., Personal Insurance Division, Customer Sales and Service Business Unit, Account Processing/Underwriting Unit, Including Teleworkers Located Throughout the United States, Reporting to Syracuse, NY

In accordance with Section 223 of the Trade Act of 1974, as amended (“Act”), 19 U.S.C. 2273, the Department of Labor issued a Certification of Eligibility to Apply for Worker Adjustment Assistance on March 25, 2011, applicable to workers of The Travelers Indemnity Company, a wholly-owned subsidiary of The Travelers Companies, Inc., Personal Insurance Division, Customer Sales and Service Business Unit, Account Processing Unit, Knoxville, Tennessee (subject firm). The Department's Notice was published in the Federal Register on April 11, 2011 (76 FR 20047). The Notice was amended on June 6, 2011 to include teleworkers located throughout the United States reporting to The Travelers Indemnity Company, Personal Insurance Division, Customer Sales and Service Business Unit, Account Processing Unit, Knoxville, Tennessee. The Notice was published in the Federal Register on June 15, 2011 (76 FR 35024). The Notice was corrected on June 17, 2011. The corrected Notice was published in the Federal Register on June 24, 2011 (76 FR 37153).

At the request of a company official, the Department reviewed the certification for workers of the subject firm.

Information shows that the Syracuse, New York and Knoxville, Tennessee locations of the subject firm operated in the same capacity through various account processing services, and both experienced worker separations during the relevant time period due to the shift in the supply of services to India.

Accordingly, the Department is amending the certification to include workers and former workers of The Travelers Indemnity Company, a wholly-owned subsidiary of The Travelers Companies, Inc., Personal Insurance Division, Customer Sales and Service Business Unit, Account Processing/Underwriting Unit, including teleworkers located throughout the United States reporting to, Syracuse, New York.

The amended notice applicable to TA-W-75,232 is hereby issued as follows:

All workers of The Travelers Indemnity Company, a wholly-owned subsidiary of The Travelers Companies, Inc., Personal Insurance Division, Customer Sales and Service Business Unit, Account Processing Unit, including teleworkers located throughout the United States reporting to, Knoxville, Tennessee (TA-W-75,232) and all workers of The Travelers Indemnity Company, a wholly-owned subsidiary of The Travelers Companies, Inc., Personal Insurance Division, Customer Sales and Service Business Unit, Account Processing/Underwriting Unit, including teleworkers located throughout the United States reporting to, Syracuse, New York (TA-W-75,232A), who became totally or partially separated from employment on or after February 10, 2010 through March 25, 2013, and all workers in the group threatened with total or partial separation from employment on date of certification through two years from the date of certification, are eligible to apply for adjustment assistance under Chapter 2 of Title II of the Trade Act of 1974, as amended.

Signed in Washington, DC, this 31st day of August, 2011.
Del Min Amy Chen,
Certifying Officer, Office of Trade Adjustment Assistance.

[FR Doc. 2011-23504 Filed 9-13-11; 8:45 am]

BILLING CODE 4510-FN-P